DEPARTMENT OF VETERANS AFFAIRS

[OMB Control No. 2900-0002]

Agency Information Collection (Income, Asset and Employment Statement and Application for Veterans Pension)

AGENCY: Department of Veterans Affairs.

ACTION: Notice; correction.

SUMMARY: The Department of Veterans Affairs (VA) published a collection of information notice in the Federal Register on November 12, 2015, which contained errors to the title and abstract. This document corrects these errors by updating the title and abstract and making corrections throughout

FOR FURTHER INFORMATION CONTACT: Crystal Rennie, Enterprise Records Service (005R1B), Department of Veterans Affairs, 810 Vermont Avenue NW., Washington, DC 20420, at 202-632-7492.

Correction

In FR Doc. 2015-28615, published on November 12, 2015, at 80 FR 70081, make the following correction. On page 70081, in the second and third columns, the notice should read as follows:

[OMB Control No. 2900-0002]

Agency Information Collection (Income, Asset and Employment Statement and Application for Veterans Pension) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 4, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0002” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0002.”

SUPPLEMENTARY INFORMATION:

Title: Income, Asset and Employment Statement and Application for Veterans Pension.

OMB Control Number: 2900-0002.

Type of Review: Revision of a currently approved collection.

Abstract: VA Form 21P-527EZ—The Department of Veterans Affairs (VA), through its Veterans Benefits Administration (VBA), administers an integrated program of benefits and services, established by law, for veterans, service personnel, and their dependents and/or beneficiaries. Title 38 U.S.C. 5101(a) provides that a specific claim in the form provided by the Secretary must be filed in order for benefits to be paid to any individual under the laws administered by the Secretary. VA Form 21P-527EZ will be the prescribed form for Veterans Pension applications.

VA proposes to remove VA Form 21-527EZ, Application for Veterans Pension, from OMB control number 2900-0747 and have it assigned to OMB control number 2900-0002 since the form has been transferred to Pension & Fiduciary Service (21P). Also, due to the change in business lines, we are changing the form prefix to 21P.

VA Form 21P-527—This form will be used by Veterans to apply for pension benefits after they have previously applied for pension or for service-connected disability compensation using one of the prescribed forms under 38 U.S.C 5101(a). A veteran might reapply for pension if a previous compensation or pension claim was denied or discontinued, or if the veteran is receiving compensation and the veteran now believes that pension would be a greater benefit.

An agency may not conduct or sponsor, and a person is not required to respond to a collection of information unless it displays a currently valid OMB control number.

The Federal Register Notice with a 60-day comment period soliciting comments on this collection of information was published on August 7, 2015 at [80 FR 152, pages 47563-47564].

Affected Public: Individuals or Households.

Estimated Annual Burden: 59,230 hours.

Estimated Average Burden per Respondent: 0.50 hours (30 minutes).

Frequency of Response: One-time.

Estimated Number of Respondents: 118,197 respondents.

By direction of the Secretary.
Kathleen M. Manwell,
Program Analyst, VA Privacy Service, Office of Privacy and Records Management, Department of Veterans Affairs.

[FR Doc. 2015-30439 Filed 12-2-15; 8:45 am]

BILLING CODE 8320-01-P